FEDERAL MARITIME COMMISSION

Notice of Agreements Filed

The Commission hereby gives notice of the filing of the following agreements under the Shipping Act of 1984. Interested parties may submit comments on agreements to the Secretary, Federal Maritime Commission, Washington, DC 20573, within ten days of the date this notice appears in the Federal Register. Copies of agreements are available through the Commission's Web site (http://www.fmc.gov) or contacting the Office of Agreements at (202)-523-5793 or tradeanalysis@fmc.gov.

Agreement No.: 012057-002.

Title: CMA CGM/Maersk Line Space Charter, Sailing and Cooperative Working Agreement Asia to USEC and PNW-Suez/PNW & Panama Loops.

Parties: A.P. Moller-Maersk A/S and CMA CGM S.A.

Filing Party: Wayne R. Rohde, Esq.; Sher and Blackwell LLP; 1850 M Street, NW., Suite 900; Washington, DC 20036.

Synopsis: The amendment would allow the parties to route one of their service loops either via the Cape of Good Hope or the Suez Canal with corresponding adjustments in vessel provision and space allocation.

Agreement No.: 012063-001.

Title: Grand Alliance/Zim Transpacific Vessel Sharing Agreement.

Parties: Hapag-Lloyd Aktiengesellschaft; Nippon Yusen Kaisha; Orient Overseas Container Line Limited; and Zim Integrated Shipping Services Limited.

Filing Party: Wayne R. Rohde, Esq.; Sher & Blackwell LLP; 1850 M Street, NW., Suite 900; Washington, DC 20036.

Synopsis: The amendment adds the U.S. East Coast and Jamaica to the geographic scope of the agreement and adds authority to operate a service between Asia and the U.S. East Coast via the Panama Canal. The parties request expedited review.

Agreement No.: 012066.

Title: “K” Line/Abou Merhi Space Charter and Cooperative Working Agreement.

Parties: Abou Merhi Lines, S.A.L.; and Kawasaki Kisen Kaisha, LTD.

Filing Party: John P. Meade, Esq.; Vice President-Law; “K” Line America, Inc.; P.O. Box 9; Preston, MD 21655.

Synopsis: The agreement authorizes “K” Line to charter space to Abou Merhi Lines in the trade between U.S. Atlantic coast ports and Beirut, Lebanon, and Jeddah, Saudi Arabia.

Agreement No.: 201048-004.

Title: Lease and Operating Agreement between Philadelphia Regional Port Authority and Delaware River Stevedores, Inc.

Parties: Philadelphia Regional Port Authority and Delaware River Stevedores, Inc.

Filing Party: Paul D. Coleman, Esq.; Hoppel, Mayer & Coleman; 1050 Connecticut Avenue, NW., Tenth Floor; Washington, DC 20036.

Synopsis: The amendment deletes the provisions pertaining to minimum vessel calls, minimum tonnage, and penalties for failing to satisfy the minimum performance requirements.

Dated: March 27, 2009.
By Order of the Federal Maritime Commission.
Karen V. Gregory,
Secretary.

[FR Doc. E9-7314 Filed 3-31-09; 8:45 am]

BILLING CODE 6730-01-P